DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Evaluation for Ecstasy, Other Club Drugs, Methamphetamine, and Inhalants Prevention Initiative—NEW

SAMHSA's Center for Substance Abuse Prevention (CSAP) under the Substance Abuse and Mental Health Services Administration (SAMHSA) will request OMB approval for two new instruments: the Targeted Capacity Expansion and Process Measure Questionnaire (TCEPMQ), and the Direct Service Intervention Dosage Data Form (DSIDDF). These instruments will be used to conduct an evaluation of capacity building, process, and project level dosage for the Ecstasy, Other Club Drugs, Methamphetamine, and Inhalant Prevention Initiative (the Initiative). These instruments will permit the grantee sites to report data about their progress in conducting targeted capacity expansion and in delivering direct service interventions.

The TCEPMQ and the DSIDDF are instruments designed to capture project level information. The TCEPMQ captures information from the projects about their project implementation and whether the project is being implemented as planned; the types of needs assessments conducted and the findings of the needs assessments; measures of awareness of Ecstasy, other club drug, methamphetamine and inhalant problems and openness to prevention efforts; measures of the projects' relationship-building activities, such as who they collaborate with, how often, and the effectiveness of these relationships; measures of their work to improve organizational and community resources; measures of contextual factors that may affect their planned activities; and a description of the effect of their capacity building activities on the community. The TECPMQ contains a total of 41 questions, 20 of which have closed-ended responses, and 21 of which require open-ended narrative responses.

The DSIDDF is designed to collect information about the projects' implementation of evidence-based prevention programs and any changes they made to the programs. The instrument also captures information about program dosage and fidelity to the model. The DSIDDF contains a total of 10 questions, 7 of which have closed-ended responses and 3 of which have open-ended, narrative responses. By collecting this information, CSAP will be able to assess the projects' progress in implementing targeted capacity expansion within the funded communities.

These electronic, standard instruments will facilitate accurate and appropriate data collection and will ensure that consistent data are collected from all projects. The practical utility of using such standard instruments is much higher than relying on narrative reports, allowing for immediate analysis and prompt technical assistance to sites experiencing program difficulties.

The estimated time needed to complete the TCEPMEQ is 3.75 hours and 2 hours for the DSIDDF. After the projects have completed their first submission of these instruments, there data will be pre-filled, which will further reduce the time burden on the respondents for the next three quarterly submission. By providing pre-filled responses, respondents will only need to provide information for those questions in which their responses have changed. The annual burden estimates for this activity are shown below:

Instrument | Number of respondents: Ecstasy and other club drugs | Number of respondents: Methamphetamine and inhalants | Estimated quarterly respondent burden (by hour): Quarter 1 | Estimated quarterly respondent burden (by hour): Quarter 2 | Estimated quarterly respondent burden (by hour): Quarter 3 | Estimated quarterly respondent burden (by hour): Quarter 4 | Total annual hourly respondent burden (total number of burden hours for all respondents)
TCEPMQ | 12 | 20 | * 3.75 | 2 | 2 | 2 | 9.75 (312)
DSIDDF | 11 | 19 | 2 | .5 | .5 | .5 | 3.5 (105)
Totals | 12 | 20 | 5.75 | 2.4 | 2.5 | 2.5 | 13.25 (417)
* This includes one hour extra for projects to read the related Administration Guide the first time only.

Send comments to Nancy Pearce, SAMHSA Reports Clearance Officer, Room 16-105, Parklawn Building, 5600 Fishers Lane, Rockville, MD 20857. Written comments should be received by October 18, 2004.

Dated: August 6, 2004.
Anna Marsh,
Executive Officer, SAMHSA.

[FR Doc. 04-18648 Filed 8-18-04; 8:45 am]

BILLING CODE 4162-20-M